POSTAL REGULATORY COMMISSION

[Docket No. CP2021-81; Order No. 5853]

Competitive Price Adjustment

AGENCY: Postal Regulatory Commission.

ACTION: Notice.

SUMMARY: The Commission is recognizing a recently filed Postal Service document with the Commission concerning changes in class of general applicability for competitive products. This notice informs the public of the filing, invites public comment, and takes other administrative steps.

DATES: Comments are due: April 8, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Initial Administrative Actions

III. Ordering Paragraphs

I. Introduction and Overview

On March 26, 2021, the Postal Service filed notice with the Commission concerning changes in class of general applicability for competitive products.¹ The Postal Service represents that, as required by 39 CFR 3035.104(b), the Notice includes an explanation and justification for the changes, the effective date, and certification of the vote. See Notice at 1. The changes are scheduled to take effect on May 23, 2021. Id.

¹ USPS Notice of Changes in Class of General Applicability for a Competitive Product, March 26, 2021 (Notice). Pursuant to 39 U.S.C. 3632(b)(2), the Postal Service is obligated to publish the Governors' Decision and record of proceedings in the Federal Register at least 30 days before the effective date of the classification.

Attached to the Notice is Governors' Decision No. 21-1, which states the classification changes are in accordance with 39 U.S.C. 3632 and 3633 and 39 CFR 3035.² The attachment to the Governors' Decision sets forth the classification changes and includes draft Mail Classification Schedule language for competitive products of general applicability.

² Notice, Decision of the Governors of the United States Postal Service on Changes in Class of General Applicability for Competitive Product (Governors' Decision No. 21-1), at 1 (Governors' Decision No. 21-1).

In addition to the Governors' Decision, the Postal Service includes a Federal Register notice detailing the changes.

Planned Delivery Changes for Priority Mail Express. The Governors' Decision includes an overview of the Postal Service's planned classification change eliminating the 10:30 a.m. delivery option for the Priority Mail Express product and the associated fee for that option. Notice at 1; Governors' Decision No. 21-1 at 1.

II. Initial Administrative Actions

The Commission establishes Docket No. CP2021-81 to consider the Postal Service's Notice. Interested persons may express views and offer comments on whether the planned changes are consistent with 39 U.S.C. 3632, 3633, and 3642, 39 CFR part 3035, and 39 CFR part 3040 subparts B and E. Comments are due no later than April 8, 2021. For specific details of the planned classification changes, interested persons are encouraged to review the Notice, which is available on the Commission's website at www.prc.gov.

Pursuant to 39 U.S.C. 505, Stephanie A. Quick is appointed to serve as Public Representative to represent the interests of the general public in this docket.

III. Ordering Paragraphs

It is ordered:

1. The Commission establishes Docket No. CP2021-81 to provide interested persons an opportunity to express views and offer comments on whether the planned changes are consistent with 39 U.S.C. 3632, 3633, and 3642, 39 CFR part 3035, and 39 CFR part 3040 subparts B and E.

2. Comments are due no later than April 8, 2021.

3. Pursuant to 39 U.S.C. 505, the Commission appoints Stephanie A. Quick to serve as an officer of the Commission (Public Representative) to represent the interests of the general public in this docket.

4. The Secretary shall arrange for publication of this order in the Federal Register.

By the Commission.
Jennie L. Jbara,
Alternate Certifying Officer.

[FR Doc. 2021-06775 Filed 4-2-21; 8:45 am]

BILLING CODE 7710-FW-P